DEPARTMENT OF DEFENSE

Department of the Army; Corps of Engineers

Availability of Draft Integrated Feasibility Report and Programmatic Environmental Impact Statement for the Upper Mississippi River—Illinois Waterway System Navigation Feasibility Study

AGENCY: Department of the Army, U.S. Army Corps of Engineers, DoD.

ACTION: Notice of availability.

SUMMARY: A Draft Integrated Feasibility Report and Programmatic Environmental Impact Statement was prepared to address the restructured Upper Mississippi River—Illinois Waterway System Navigation Feasibility Study. This document is available for interested persons to review and prepare comments on the draft. The purpose of this document is to provide a comprehensive documentation of the Upper Mississippi River—Illinois Waterway System Feasibility Study process and draft recommendations for action. The 9-Foot Channel Navigation Project, originally authorized in 1930, was reviewed for changed physical, economic, and environmental conditions that may warrant structural or non-structural modifications to reduce congestion of commercial navigation traffic and to enhance ecosystem restoration. This integrated report describes the plan formulation process, environmental impacts, and the draft preferred plan for this study. The original Notice of Intent for this project was published in the Federal Register on November 27, 1995 (60 FR 58339) and a revised Notice of Intent was published February 23, 2004 (69 FR 8185).

DATES: There will be a 70-day public review period for comments on this document. Comments will be accepted at the public hearings, by letter, or electronically at DraftNavRptComments@usace.army.mil. Comments must be received on or before July 30, 2004. See Supplementary Information section for public hearing dates and addresses.

ADDRESSES: Send written comments and suggestions or document requests concerning this proposed project: District Engineer, U.S. Army Engineer District, Rock Island, ATTN: CEMVR-PM-A (Jackson), Clock Tower Building—P.O. Box 2004, Rock Island, IL 61204-2004.

FOR FURTHER INFORMATION CONTACT: Questions about the proposed action and Draft Integrated Feasibility Report and Programmatic Environmental Impact Statement can be answered by Mr. Kenneth Barr by telephone (309) 794-5349, or by mail: District Engineer, U.S. Army Engineer District, Rock Island, ATTN: CEMVR-PM-A (Barr), Clock Tower Building—P.O. Box 2004, Rock Island, IL 61204-2004.

SUPPLEMENTARY INFORMATION: Public hearings on the Draft Integrated Feasibility Report and Programmatic Environmental Impact Statement will be held on: June 7, 2004, at the Holiday Inn, 5202 Brady Street, Davenport, Iowa; June 8, 2004, at the Grand Harbor Resort and Waterpark—Grand River Center, 350 Bell Street, Dubuque, Iowa; June 9, 2004, at the Radisson Hotel La Crosse, 200 Harborview Plaza, La Crosse, Wisconsin; June 10, 2004, at the Minneapolis Airport Marriott, 2020 American Boulevard East, Bloomington, Minnesota; June 14, 2004, at the Hotel Pere Marquette, 501 Main Street, Peoria, Illinois; June 15, 2004, at the Stoney Creek Inn, 3809 East Broadway Street, Quincy, Illinois; June 16, 2004, at the St. Louis Airport Marriott, I-70 at Lambert Airport, St. Louis, Missouri; and June 17, 2004, at the Phoenix Park Hotel, 520 North Capital Street, NW., Washington, DC.

Public Hearing Schedule (all locations but Washington, DC)

2-4 p.m.—Informal Open House

4-5:30 p.m.—Dinner Break

5:30-6:30 p.m.—Registration

6:30-6:35 p.m.—Opening Remarks

6:35-6:50 p.m.—Presentation

6:50-9:30 p.m. (or later)—Public Hearing

Washington, DC, Schedule

1-3 p.m.—Informal Open House

3-6 p.m.—Registration, Opening Remarks, Presentation, and Public Hearing

This report can be downloaded at http://www2.mvr.usace.army.mil/umr-iwwsns. An electronic compact disc (CD) containing the report is available at no cost, and paper copies are available for $34.90 per copy. Requests for copies (CD or paper) of the Draft Integrated Feasibility Report and Programmatic Environmental Impact Statement or to be placed on the mailing list should be sent to the address listed in the Addresses section of this notice.

Dated: April 30, 2004
Duane P. Gapinski,
Colonel, EN, Commanding.

[FR Doc. 04-10943 Filed 5-13-04; 8:45 am]

BILLING CODE 3710-HV-M